DEPARTMENT OF HEALTH AND HUMAN SERVICES

Food and Drug Administration

[FDA 225-04-4002]

Memorandum of Understanding Between the Food and Drug Administration and Blacks In Government, Inc.

AGENCY: Food and Drug Administration, HHS.

ACTION: Notice.

SUMMARY: The Food and Drug Administration (FDA) is providing notice of a memorandum of understanding (MOU) between the Food and Drug Administration and Blacks In Government, Inc. to promote health and disease prevention initiatives supported by Healthy People 2010 goals and Department of Health and Human Services initiatives.

DATES: The agreement became effective October 22, 2003.

FOR FURTHER INFORMATION CONTACT: Patrick C. Wilson, Office of International Programs (HFG-1), Food and Drug Administration, 5600 Fishers Lane, Rockville, MD 20857, 301-827-3097.

SUPPLEMENTARY INFORMATION: In accordance with 21 CFR 20.108(c), which states that all written agreements and MOUs between FDA and others shall be published in the Federal Register, the agency is publishing notice of this MOU.

Dated: March 3, 2004.
Jeffrey Shuren,
Assistant Commissioner for Policy.

BILLING CODE 4160-01-S

[FR Doc. 04-5568 Filed 3-11-04; 8:45 am]

BILLING CODE 4160-01-C